DEPARTMENT OF TRANSPORTATION

Federal Aviation Administration

14 CFR Part 121

Crewmember and Dispatcher Training Programs

AGENCY: Federal Aviation Administration (FAA), DOT.

ACTION: Final rule; technical amendment.

SUMMARY: The FAA is issuing this technical amendment to reserve subparts BB and CC in 14 CFR part 121. The FAA is engaged in rulemaking and anticipates codifying the new regulations in part 121 subparts BB and CC.

DATES: This rule is effective on May 7, 2008.

FOR FURTHER INFORMATION CONTACT: Cindy Nordlie, Office of Rulemaking, Federal Aviation Administration, 800 Independence Avenue, SW., Washington, DC 20591; telephone: (202) 267-9677.

SUPPLEMENTARY INFORMATION:

Discussion

The FAA is engaged in rulemaking to revise regulations for crewmember and dispatcher training programs in domestic, flag, and supplemental operations. The FAA anticipates codifying the revised training regulations for crewmembers in subpart BB of part 121 and regulations for dispatchers in subpart CC of part 121. The FAA is issuing this technical amendment to reserve subparts BB and CC in 14 CFR part 121 to ensure that these subparts will be available for this future rulemaking.

List of Subjects 14 CFR Part 121

Air carriers, Aircraft, Aviation safety, Reporting and recordkeeping requirements, Safety, Transportation.

The Amendment

In consideration of the foregoing, the Federal Aviation Administration amends part 121 of Title 14, Code of Federal Regulations, as follows:

PART 121—OPERATING REQUIREMENTS: DOMESTIC, FLAG, AND SUPPLEMENTAL OPERATIONS

1. The authority citation for part 121 continues to read as follows:

Authority: 49 U.S.C. 106(g), 40113, 40119, 41706, 44101, 44701-44702, 44705, 44709-44711, 44713, 44716-44717, 44722, 46105.

Subpart BB—[Reserved]

2. Add and reserve subpart BB, consisting of §§ 121.1200 through 121.1399.

Subpart CC—[Reserved]

3. Add and reserve subpart CC, consisting of §§ 121.1400 through 121.1499.

Issued in Washington, DC on May 1, 2008.
Pamela Hamilton-Powell,
Director, Office of Rulemaking.

[FR Doc. E8-10205 Filed 5-6-08; 8:45 am]

BILLING CODE 4910-13-P